NATIONAL AERONAUTICS AND SPACE ADMINISTRATION

[Notice 04-155]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: December 29, 2004.

FOR FURTHER INFORMATION CONTACT: Linda B. Blackburn, Patent Counsel, Langley Research Center, Mail Code 141, Hampton, VA 23681-2199; telephone (757) 864-9260; fax (757) 864-9190.

NASA Case No. LAR-16571-1: Magnetic Field Response Sensor For Conductive Media;

NASA Case No. LAR-16599-1: Adaptive Composite Skin Technology (ACTS);

NASA Case No. LAR 16908-1: Magnetic Field Response Measurement Acquisition System

NASA Case No. LAR-16134-1: Interrupt-Based Phase-Locked Frequency Multiplier;

NASA Case No. LAR-16299-1: Support Assembly For Composite Laminate Materials During Roll Press Processing;

NASA Case No. LAR-16307-2: Methodology For The Effective Stabilization Of Tin-Oxide-Based Oxidation/Reduction Catalysts;

NASA Case No. LAR-16475-1: Carbon Nanotube-Based Sensor And Method For Continually Sensing Changes In A Structure;

NASA Case No. LAR-16549-1: System And Method For Monitoring Piezoelectric Material Performance;

NASA Case No. LAR-16555-1: A Process For The Simultaneous Formation Of Surface And Sub-Surface Metallic Layers In Polymer Films;

NASA Case No. LAR-16573-1: Carbon Nanotube Based Light Sensor;

NASA Case No. LAR-16575-1: Device And Method For Connections Made Between A Crimp Connector And Wire;

NASA Case No. LAR-16689-1: Trailing Vortex Management Via Boundary Layer Separation Control;

NASA Case No. LAR-16854-1: Method And Apparatus To Assess Compartment Syndrome;

NASA Case No. LAR 16616-1, Laser-Induced Fabrication of Metallic Interlayers and Patterns in Polyimide Films.

Dated: December 10, 2004.
Keith T. Sefton,
Deputy General Counsel, Administration and Management.

[FR Doc. 04-28516 Filed 12-28-04; 8:45 am]

BILLING CODE 7510-13-P